NUCLEAR REGULATORY COMMISSION

[NRC-2009-0276]

Draft Regulatory Guide: Issuance, Availability

AGENCY: Nuclear Regulatory Commission.

ACTION: Notice of issuance and availability of Draft Regulatory Guide, DG-1221.

FOR FURTHER INFORMATION CONTACT: Jeffrey Hixon, U.S. Nuclear Regulatory Commission, Washington, DC 20555-0001, telephone: (301) 251-7639 or e-mail to Jeffrey.Hixon@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Control of Stainless Steel Weld Cladding of Low-Alloy Steel Components,” is temporarily identified by its task number, DG-1221, which should be mentioned in all related correspondence. DG-1221 is proposed Revision 1 of Regulatory Guide 1.43, dated May 1973.

General Design Criterion I, “Quality Standards and Records,” of Appendix A, “General Design Criteria for Nuclear Power Plants,” to Title 10, part 50, “Domestic Licensing of Production and Utilization Facilities,” of the Code of Federal Regulations (10 CFR part 50) requires that components important to safety be designed, fabricated, and tested to quality standards commensurate with the importance of the safety function to be performed. Appendix B, “Quality Assurance Criteria for Nuclear Power Plants and Fuel Processing Plants,” to 10 CFR part 50, requires that measures be established to ensure control of special processes such as welding and that proper testing be performed. This guide describes acceptable methods of implementing these requirements with regard to the selection and control of welding processes used for cladding ferritic steel components with austenitic stainless steel to restrict practices that could result in underclad cracking. This guide is limited to forgings and plate material and does not apply to other product forms such as castings and pipe. Adequate resistance to underclad cracking for these latter items should be assured on a case-by-case basis. This guide applies to light-water-cooled reactors.

II. Further Information

The NRC staff is soliciting comments on DG-1221. Comments may be accompanied by relevant information or supporting data and should mention DG-1221 in the subject line. Comments submitted in writing or in electronic form will be made available to the public in their entirety through the NRC's Agencywide Documents Access and Management System (ADAMS).

Personal information will not be removed from your comments. You may submit comments by any of the following methods:

1. Mail comments to: Rulemaking and Directives Branch, Mail Stop: TWB-05-B01M, Office of Administration, U.S. Nuclear Regulatory Commission, Washington, DC 20555-0001.

2. Federal e-Rulemaking Portal: Go to http://www.regulations.gov and search for documents filed under Docket ID [NRC-2009-0276]. Address questions about NRC dockets to Carol Gallagher, 301-492-3668; e-mail Carol.Gallagher@nrc.gov.

3. Fax comments to: Rulemaking and Directives Branch, Office of Administration, U.S. Nuclear Regulatory Commission at (301) 492-3446.

Requests for technical information about DG-1221 may be directed to the NRC contact, Jeffrey Hixon at (301) 251-7639 or e-mail to Jeffrey.Hixon@nrc.gov.

Comments would be most helpful if received by August 31, 2009. Comments received after that date will be considered if it is practical to do so, but the NRC is able to ensure consideration only for comments received on or before this date. Although a time limit is given, comments and suggestions in connection with items for inclusion in guides currently being developed or improvements in all published guides are encouraged at any time.

Electronic copies of DG-1221 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML090750044.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 25th day of June 2009.
For the Nuclear Regulatory Commission.
Mark P. Orr,
Acting Chief, Regulatory Guide Development Branch, Division of Engineering, Office of Nuclear Regulatory Research.

[FR Doc. E9-15786 Filed 7-2-09; 8:45 am]

BILLING CODE 7590-01-P